DEPARTMENT OF COMMERCE

Bureau of Industry and Security

Submission for OMB Review; Comment Request

The Department of Commerce will submit to the Office of Management and Budget (OMB) for clearance the following proposal for collection of information under the provisions of the Paperwork Reduction Act (44 U.S.C. Chapter 35).

Agency: Bureau of Industry and Security.

Title: Chemical Weapons Convention (CWC) Declaration and Report Handbook and Forms.

Form Number(s): Form 1-1, Form 1-2, Form 1-2A, Form 1-2B, etc.

OMB Control Number: 0694-0091.

Type of Request: Regular.

Burden Hours: 14,813 hours.

Number of Respondents: 779 respondents.

Average Hours per Response: 10 minutes to 577 hours per response.

Needs and Uses: This information is required for the United States to comply with its obligations under the Chemical Weapons Convention (CWC), an international arms control treaty. The Chemical Weapons Convention Implementation Act of 1998 and Commerce Chemical Weapons Convention Regulations (CWCR) specify the rights, responsibilities and obligations for submission of declarations, reports and inspections.

Affected Public: Businesses and other for-profit institutions.

Frequency: On occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: March 29, 2016.
Glenna Mickelson,
Management Analyst, Office of the Chief Information Officer.

[FR Doc. 2016-07380 Filed 3-31-16; 8:45 am]

BILLING CODE 3510-33-P